DEPARTMENT OF ENERGY

Federal Energy Regulatory Commission

[Project No. 2016-207]

Tacoma Power; Notice of Application for Amendment of License and Soliciting Comments, Motions To Intervene, and Protests

September 16, 2009.

a. Type of Application: Amendment Recreation Facilities Plan.

b. Project Number: 2016-207.

c. Date Filed: August 25, 2009.

d. Applicant: Tacoma Power.

e. Name of Project: Cowlitz River Hydroelectric Project.

f. Location: The project is located on the Cowlitz River in Lewis County, Washington, and occupies Federal lands administered by the U.S. Forest Service and Bureau of Land Management.

g. Filed Pursuant to: Federal Power Act, 16 U.S.C. 791(a) 825(r).

h. Applicant Contact: Ms. Cindy Swanberg, Tacoma Power, 3628 South 35th Street, Tacoma, WA 98409; telephone: (253) 502-8362; e-mail: cswanber@cityoftacoma.org.

i. FERC Contact: Any questions on this notice should be addressed to Christopher Yeakel at (202) 502-8132, or e-mail address: christopher.yeakel@ferc.gov.

j. Deadline for filing comments and/or motions: October 16, 2009.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: Tacoma Power proposes to amend the project's approved recreation plan by deleting a requirement to lengthen an existing boat dock at the Mossyrock Park Boat Launch. Instead the licensee proposes to build a new loading dock that is designed to be used during low reservoir levels at the Taidnapam North Boat launch, which was completed in 2008 pursuant to the approved recreation plan. The licensee states that the new configuration will better serve the boating public while eliminating the environmental and aesthetic impacts associated with extending the existing dock at Mossyrock Park. In developing the application, the licensee consulted with the U.S. Fish and Wildlife Service, U.S. Forest Service, Washington Department of Fish and Wildlife, Washington State Parks and Recreation Commission, Washington Recreation and Conservation Office, and Lewis County, Washington.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (p-2016) to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers (p-2016-207).

p. Agency Comments—Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Kimberly D. Bose,
Secretary.

[FR Doc. E9-22857 Filed 9-22-09; 8:45 am]

BILLING CODE 6717-01-P